DEPARTMENT OF TRANSPORTATION

Federal Aviation Administration

14 CFR Part 39

[Docket No. 2002-NM-113-AD]

RIN 2120-AA64

Airworthiness Directives; Airbus Model A300 B2-1C, B2-203, B2K-3C, B4-2C, B4-103, and B4-203 Series Airplanes; Model A300 B4-600, B4-600R, and F4-600R (collectively called A300-600); and Model A310 Series Airplanes

AGENCY: Federal Aviation Administration, DOT.

ACTION: Notice of proposed rulemaking (NPRM).

SUMMARY: This document proposes the supersedure of an existing airworthiness directive (AD), applicable to all Airbus Model A300 B2-1C, B2-203, B2K-3C, B4-2C, B4-103, and B4-203 series airplanes, that currently requires a one-time inspection of the space between the fuel quantity indication (FQI) probes and any adjacent structures for minimum clearance, and corrective action if necessary. This action would expand the applicability in the existing AD and would require the subject one-time inspection on the additional airplanes. The actions specified by the proposed AD are intended to prevent the possibility of electrical arcing to the fuel tank if the airplane should be struck by lightning. Such arcing could create a potential ignition source within the fuel tank and an increased risk of a fuel tank explosion and fire. This action is intended to address the identified unsafe condition.

DATES: Comments must be received by November 3, 2003.

ADDRESSES: Submit comments in triplicate to the Federal Aviation Administration (FAA), Transport Airplane Directorate, ANM-114, Attention: Rules Docket No. 2002-NM-113-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-113-AD” in the subject line and need not be submitted in triplicate. Comments sent via the Internet as attached electronic files must be formatted in Microsoft Word 97 or 2000 or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-113-AD.” The postcard will be date stamped and returned to the commenter.

Availability of NPRMs

Any person may obtain a copy of this NPRM by submitting a request to the FAA, Transport Airplane Directorate, ANM-114, Attention: Rules Docket No. 2002-NM-113-AD, 1601 Lind Avenue, SW., Renton, Washington 98055-4056.

Discussion

On June 19, 2001, the FAA issued AD 2001-13-09, amendment 39-12289 (66 FR 34088, June 27, 2001), applicable to all Airbus Model A300 B2-1C, B2-203, B2K-3C, B4-2C, B4-103, and B4-203 series airplanes, to require a one-time inspection of the space between the fuel quantity indication (FQI) probes and any adjacent structures for minimum clearance, and corrective action if necessary. That action was prompted by the issuance of mandatory continuing airworthiness information by a foreign civil airworthiness authority. The requirements of that AD are intended to prevent the possibility of electrical arcing to the fuel tank if the airplane should be struck by lightning.

Actions Since Issuance of Previous Rule

Since the issuance of AD 2001-13-09, the Direction Générale de l'Aviation Civile (DGAC), which is the airworthiness authority for France, has mandated the one-time inspection required by the existing AD (which is applicable to Model A300 B2-1C, B2-203, B2K-3C, and A300 B4 series airplanes) for Model A310 and Model A300 B4-600, B4-600R, and F4-600R (collectively called A300-600) series airplanes, and expanded the applicability to include those airplanes.

Explanation of Relevant Service Information

Airbus has issued Service Bulletin A300-28-0080, Revision 01, dated September 3, 2001 (the original issue of the service bulletin was referenced in the existing AD for accomplishment of the referenced actions). Revision 01 has no substantial changes from the original issue.

Airbus also has issued Service Bulletins A300-28-6065, dated March 29, 2001; Revision 01, dated August 31, 2001; and Revision 02, dated August 1, 2002 (for Model A300-600 series airplanes); and A310-28-2145, dated August 21, 2001 (for Model A310 series airplanes). The service bulletins describe procedures for inspecting the FQI probes to make sure that there is a minimum clearance of 3.0 mm (0.118 in.) between each FQI probe and any adjacent structure and/or component in the wing fuel tanks, and adjustment of the clearance space if necessary.

The DGAC classified these service bulletins as mandatory and issued French airworthiness directive 2002-170(B), dated April 3, 2002, in order to ensure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept us informed of the situation described above. We have examined the findings of the DGAC, reviewed all available information, and determined that AD action is necessary for products of this type design that are certificated for operation in the United States.

Explanation of Requirements of Proposed Rule

Since an unsafe condition has been identified that is likely to exist or develop on other airplanes of the same type design registered in the United States, the proposed AD would supersede AD 2001-13-09 to continue to require a one-time inspection of the space between the fuel quantity indication (FQI) probes and any adjacent structures for minimum clearance, and corrective action if necessary. The proposed AD also would expand the applicability in the existing AD and would require the subject one-time inspection on the additional airplanes. The actions would be required to be accomplished in accordance with the service bulletins described previously.

Changes to 14 CFR Part 39/Effect on the AD

On July 10, 2002, we issued a new version of 14 CFR part 39 (67 FR 47997, July 22, 2002), which governs the FAA's airworthiness directives system. The regulation now includes material that relates to altered products, special flight permits, and alternative methods of compliance (AMOCs). Because we have now included this material in part 39, only the office authorized to approve AMOCs is identified in each individual AD.

Change to Labor Rate Estimate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

There are approximately 115 airplanes of U.S. registry that would be affected by this proposed AD.

The inspection that is currently required by AD 2001-13-09 takes approximately 7 work hours per airplane to accomplish, at an average labor rate of $65 per work hour. Based on these figures, the cost impact of the currently required inspection is estimated to be $455 per airplane.

It would take approximately 5 work hours per airplane to accomplish the new inspection, specified in Airbus Service Bulletin A310-28-2145, at an average labor rate of $65 per work hour. Based on these figures, the cost impact of this proposed inspection is estimated to be $325 per airplane.

It would take approximately 10 work hours per airplane to accomplish the new inspection of the wing fuel tank, and approximately 5 work hours per airplane to accomplish the new inspection of the trim fuel tank, specified in Airbus Service Bulletin A300-28-6065, at an average labor rate of $65 per work hour. Based on these figures, the cost impact of these proposed inspections is estimated to be $650 per wing fuel tank, and $325 per trim fuel tank, per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12289 (66 FR 34088, June 27, 2001), and by adding a new airworthiness directive (AD), to read as follows:

Airbus: Docket 2002-NM-113-AD. Supersedes AD 2001-13-09, Amendment 39-12289.

Applicability: All Model A300 B2-1C, B2-203, B2K-3C, B4-2C, B4-103, and B4-203 series airplanes; Model A300 B4-600, B4-600R, and F4-600R (collectively called A300-600) series airplanes except those on which Airbus Modification 12278 has been accomplished in production; and Model A310 series airplanes except those on which Airbus Modification 12248 has been accomplished in production; certificated in any category.

Compliance: Required as indicated, unless accomplished previously.

To prevent the possibility of electrical arcing to the fuel tank if the airplane should be struck by lightning, which could create a potential ignition source within the fuel tank and an increased risk of a fuel tank explosion and fire, accomplish the following:

Restatement of Requirements of AD 2001-13-09

Inspection

(a) For Model A300 B2-1C, B2-203, B2K-3C, and A300 B4 series airplanes: Within 4,000 flight hours after August 1, 2001 (the effective date of AD 2001-13-09, amendment 39-12289), inspect the clearance space from each fuel quantity indication (FQI) probe to any adjacent structure or metallic component, in accordance with Airbus Service Bulletin A300-28-0080, dated September 28, 2000; or Revision 01, dated September 3, 2001.

New Requirements of This AD

Detailed Inspection

(b) For Model A300-600 and A310 series airplanes: Within 4,000 flight hours after the effective date of this AD; do a detailed inspection of the clearance space from each FQI probe to any adjacent structure or metallic component, in accordance with Airbus Service Bulletin A300-28-6065, dated March 29, 2001; Revision 01, dated August 31, 2001; or Revision 02, dated August 1, 2002; or Airbus Service Bulletin A310-28-2145, dated August 21, 2001; as applicable.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Clearance Adjustment

(c) If, during any inspection required by this AD, the clearance between any probe and its adjacent parts is less than 3.0 mm (0.118 in.), as described in Airbus Service Bulletin A300-28-0080, dated September 28, 2000; or Revision 01, dated September 3, 2001; or A300-28-6065, dated March 29, 2001; Revision 01, dated August 31, 2001; or Revision 02, dated August 1, 2002; or A310-28-2145, dated August 21, 2001: Before further flight, adjust the position of the FQI probe in accordance with paragraph 3.C. of the Accomplishment Instructions of the applicable service bulletin.

Alternative Methods of Compliance

(d)(1) In accordance with 14 CFR 39.19, the Manager, International Branch, ANM-116, FAA, is authorized to approve alternative methods of compliance for this AD.

(2) Alternative methods of compliance, approved previously per AD 2001-13-09, amendment 39-12289, are approved as alternative methods of compliance with paragraph (a) of this AD.

Note 2: The subject of this AD is addressed in French airworthiness directive 2002-170(B), dated April 3, 2002.

Issued in Renton, Washington, on September 26, 2003.
Ali Bahrami,
Acting Manager, Transport Airplane Directorate, Aircraft Certification Service.

[FR Doc. 03-24977 Filed 10-1-03; 8:45 am]

BILLING CODE 4910-13-P